DEPARTMENT OF HEALTH AND HUMAN SERVICES

Substance Abuse and Mental Health Services Administration

SAMHSA Last Receipt Date for Program Announcement (PA) No. PA-98-090—Conference Grants

SUMMARY: This notice is to inform the public that the last receipt date for applications under SAMHSA Program Announcement No. PA-98-090, SAMHSA Knowledge Dissemination Conference Grants (Short Title: SAMHSA Conference Grants) will be September 10, 2002. A new program announcement for conference grants will be published soon after that date.

Conference Grants fund up to 75 percent of the total direct costs of domestic conferences that are of national significance to consumer and provider services oriented constituency groups for the purpose of advancing the mental health and substance abuse fields through knowledge synthesis and dissemination. Each of the three centers participate when funding is available. Awards range from a minimum of $25,000 to a maximum of $50,000 in total costs.

Information about the program and the full text of the current PA-98-090 conference grant announcement can be obtained from:

The CMHS Knowledge Exchange Network (KEN) at: 1-800-789-2647, Monday through Friday, 8:30 a.m. to 5:00 p.m., EST, Write: P.O. Box 42490, Washington, DC 20015

The National Clearinghouse for Alcohol and Drug Information at: 1-800-729-6686, Monday through Friday, 8:30 a.m. to 5:00 p.m., EST, Write: P.O. Box 2345, Rockville, MD 20847-2345

Or from the SAMHSA web site at http://www.SAMHSA.gov.

For questions concerning program issues, contact:

For mental health topics: David Morrissette, DSW, Center for Mental Health Services/SAMHSA, 5600 Fishers Lane, Room 11C-22, Rockville, MD 20857, (301) 443-3653, e-mail: dmorriss@samhsa.gov.

For substance abuse treatment topics: Kim Plavsic, Center for Substance Abuse Treatment/SAMHSA, 5515 Security Lane, Suite 840, Rockville, MD 20852, (301) 443-7916, e-mail: kplavsic@samhsa.gov.

For substance abuse prevention topics: Boris R. Aponte, Ph.D., CHES, Center for Substance Abuse Prevention/SAMHSA, 5515 Security Lane, Suite 800, Rockville, MD 20852, (301) 443-2290, e-mail: baponte@samhsa.gov.

For more information on PA-98-090 go to the online announcement.
Dated: June 26, 2002.
Patricia Bransford,
Acting Executive Officer, Substance Abuse and Mental Health Services Administration.

[FR Doc. 02-16818 Filed 7-3-02; 8:45 am]

BILLING CODE 4162-20-P